ENVIRONMENTAL PROTECTION AGENCY

[EPA-HQ-OAR-2016-0243; FRL-9965-04-OEI]

Information Collection Request Submitted to OMB for Review and Approval; Comment Request; Plywood and Composite Wood Products National Emission Standards for Hazardous Air Pollutants (NESHAP) Risk and Technology Review (RTR)

AGENCY: Environmental Protection Agency (EPA).

ACTION: Notice.

SUMMARY: The Environmental Protection Agency (EPA) has submitted an information collection request (ICR), for the “Plywood and Composite Wood Products National Emission Standards for Hazardous Air Pollutants (NESHAP) Risk and Technology Review (RTR)” (EPA ICR No. 2552.01, OMB Control No. 2060—NEW) to the Office of Management and Budget (OMB) for review and approval in accordance with the Paperwork Reduction Act. This is a request for approval of a new collection. Public comments were previously requested via the Federal Register (81 FR 62125) on September 8, 2016, during a 60-day comment period. This notice allows for an additional 30 days for public comments. A fuller description of the ICR is given below, including its estimated burden and cost to the public. An agency may not conduct or sponsor and a person is not required to respond to a collection of information unless it displays a currently valid OMB control number.

DATES: Additional comments may be submitted on or before September 18, 2017.

ADDRESSES: Submit your comments, referencing Docket ID Number EPA-HQ-OAR-2016-0243, to (1) EPA online using www.regulations.gov (our preferred method), by email to A-and-R-docket@epa.gov, or by mail to: EPA Docket Center, Environmental Protection Agency, Mail Code 28221T, 1200 Pennsylvania Ave. NW., Washington, DC 20460, and (2) OMB via email to oira_submission@omb.eop.gov. Address comments to OMB Desk Officer for EPA.

The EPA's policy is that all comments received will be included in the public docket without change, including any personal information provided, unless the comment includes profanity, threats, information claimed to be Confidential Business Information (CBI), or other information whose disclosure is restricted by statute.

FOR FURTHER INFORMATION CONTACT: John Bradfield, Sector Policies and Programs Division (E143-03), Office of Air Quality Planning and Standards, Environmental Protection Agency, Research Triangle Park, NC 27711; telephone number: (919) 541-3062; fax number: (919) 541-3470; email address: bradfield.john@epa.gov.

SUPPLEMENTARY INFORMATION: Supporting documents, which explain in detail the information that the EPA will be collecting, are available in the public docket for this ICR. The docket can be viewed online at www.regulations.gov or in person at the EPA Docket Center, EPA WJC West Building, Room 3334, 1301 Constitution Ave. NW., Washington, DC. The telephone number for the Docket Center is 202-566-1744. For additional information about the EPA's public docket, visit http://www.epa.gov/dockets.

Abstract: This ICR is being conducted by the EPA's Office of Air and Radiation to assist the EPA Administrator to fulfill his responsibilities under sections 112(d) and 112(f) of the Clean Air Act (CAA), as amended. The CAA requires a review of each NESHAP following the application of the standard to determine any remaining risk and whether the standard is protective to public health with an ample margin of safety and prevents adverse environmental effects. The CAA also requires that the standard be reviewed and revised, as necessary, taking into account developments in practices, processes, and control technology. For efficiency and to reduce burden, these reviews are conducted concurrently and known as RTR. The federal emission standard that is the subject of this information collection is the National Emission Standards for Hazardous Air Pollutants: Plywood and Composite Wood Products (PCWP) (40 CFR part 63, subpart DDDD). On March 22, 2017, the EPA was ordered by the United States Court of Appeals for the District of Columbia Circuit to complete the PCWP RTR no later than June 30, 2020. In addition to the CAA reviews, in 2007, the United States Court of Appeals for the District of Columbia Circuit issued a remand requiring the administrator to develop standards for emission units identified in the PCWP NESHAP for which emission limits were not promulgated.

The ICR will provide specific, required information, including emission inventories, compliance demonstrations, process changes, and information about control technologies/practices adopted since the application of maximum achievable control technology (MACT). The ICR will be sent to all known operators of PCWP facilities that are major sources for hazardous air pollutants (HAP) regulated by the PCWP NESHAP and synthetic area sources that may have used technology to avoid major source status triggering NESHAP applicability. The information collection seeks to collect facility-level information (e.g., facility name, location, contact information, and process unit details), emissions information, compliance data, control information, and descriptions of technological innovations.

Form Numbers: None.

Respondents/affected entities: Major sources regulated by the PCWP NESHAP and synthetic area sources that may have used technology to avoid major source status triggering NESHAP applicability.

Respondent's obligation to respond: Mandatory under the authority of section 114 of the CAA.

Estimated number of respondents: 397 (total).

Frequency of response: Once.

Total estimated burden: 59,437 hours (one-time). Burden is defined at 5 CFR 1320.03(b).

Total estimated cost: $4,199,272 (one-time), which includes $6,650 in operation and maintenance costs (O&M) to cover mailing hard copies.

Courtney Kerwin,
Director, Regulatory Support Division.

[FR Doc. 2017-17385 Filed 8-16-17; 8:45 am]

BILLING CODE P6560-50-P